DEPARTMENT OF COMMERCE

International Trade Administration

[A-570-506][A-201-504][A-583-508]

Continuation of Antidumping Duty Orders: Porcelain-on-Steel Cooking Ware from China, Mexico, and Taiwan

Correction

In notice document 00-9374 beginning on page 20136 in the issue of Friday April 14, 2000, make the following correction:

On page 20136, in the second column, in the EFFECTIVE DATE: section, “May 14, 2000” should read “April 14, 2000”.

[FR Doc. C0-9374 Filed 4-20-00; 8:45 am]

BILLING CODE 1505-01-D